DEPARTMENT OF TRANSPORTATION

Federal Aviation Administration

14 CFR Part 39

[Docket No. FAA-2013-0561; Directorate Identifier 2013-NE-23-AD; Amendment 39-17680; AD 2013-24-06]

RIN 2120-AA64

Airworthiness Directives; Thielert Aircraft Engines GmbH Reciprocating Engines

AGENCY: Federal Aviation Administration (FAA), DOT.

ACTION: Final rule.

SUMMARY: We are adopting a new airworthiness directive (AD) for all Thielert Aircraft Engines GmbH TAE 125-01 reciprocating engines. This AD requires applying sealant to close the engine clutch housing (crankcase assembly) opening. This AD was prompted by a report of engine power loss due to engine coolant contaminating the engine clutch. The design of the engine allows the crankcase assembly opening to be susceptible to contamination from external sources. We are issuing this AD to prevent in-flight engine power loss, which could result in loss of control of, and damage to, the airplane.

DATES: This AD becomes effective December 30, 2013.

ADDRESSES: The Docket Operations office is located at Docket Management Facility, U.S. Department of Transportation, 1200 New Jersey Avenue SE., West Building Ground Floor, Room W12-140, Washington, DC 20590-0001.

Examining the AD Docket

You may examine the AD docket on the Internet at http://www.regulations.gov; or in person at the Docket Operations office between 9 a.m. and 5 p.m., Monday through Friday, except Federal holidays. The AD docket contains this AD, the mandatory continuing airworthiness information (MCAI), the regulatory evaluation, any comments received, and other information. The street address for the Docket Operations office (phone: 800-647-5527) is provided in the ADDRESSES section. Comments will be available in the AD docket shortly after receipt.

FOR FURTHER INFORMATION CONTACT: Frederick Zink, Aerospace Engineer, Engine Certification Office, FAA, Engine & Propeller Directorate, 12 New England Executive Park, Burlington, MA 01803; phone: 781-238-7779; fax: 781-238 7199; email: frederick.zink@faa.gov.

SUPPLEMENTARY INFORMATION:

Discussion

We issued a notice of proposed rulemaking (NPRM) to amend 14 CFR part 39 by adding an AD that would apply to the specified products. The NPRM was published in the Federal Register on August 5, 2013 (78 FR 47228). The NPRM proposed to correct an unsafe condition for the specified products. The MCAI states:

A power loss event was reported on an aeroplane equipped with a TAE 125-01 engine. The investigation results showed that the probable cause was contamination of the engine clutch by coolant spillage during the last maintenance operation. The contamination penetrated the clutch housing through an opening located under the coolant tank that was only closed by a not fluid-tight plastic cover.

You may examine the MCAI in the AD docket on the Internet at http://www.regulations.gov/#!documentDetail;D=FAA-2013-0561-0002.

Comments

We gave the public the opportunity to participate in developing this AD. We received no comments on the NPRM (78 FR 47228, August 5, 2013).

Conclusion

We reviewed the available data and determined that air safety and the public interest require adopting this AD as proposed.

Costs of Compliance

We estimate that this AD will affect about 140 engines of U.S. registry. We also estimate that it will take about 2.5 hours per engine to comply with this AD. The average labor rate is $85 per hour. Required parts cost about $110 per engine. Based on these figures, we estimate the cost of this AD on U.S. operators to be $45,150.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-24-06 Thielert Aircraft Engines GmbH: Amendment 39-17680; Docket No. FAA-2013-0561; Directorate Identifier 2013-NE-23-AD.

(a) Effective Date

This AD becomes effective December 30, 2013.

(b) Affected ADs

None.

(c) Applicability

This AD applies to all Thielert Aircraft Engines GmbH TAE 125-01 reciprocating engines.

(d) Reason

This AD was prompted by a report of engine power loss due to engine coolant contaminating the engine clutch. The design of the engine allows the crankcase assembly opening to be susceptible to contamination from external sources. We are issuing this AD to prevent in-flight engine power loss, which could result in loss of control of, and damage to, the airplane.

(e) Actions and Compliance

Unless already done, do the following actions.

(1) After the effective date of this AD at the next annual or 100-hour inspection, whichever comes first, apply sealant to close the engine clutch housing (crankcase assembly) opening.

(2) Thereafter, reapply sealant to the engine clutch housing (crankcase assembly) opening, whenever the sealant is found to be not liquid-tight, or is removed.

(3) Guidance on the sealant and application can be found in Thielert Aircraft Engines GmbH Service Bulletin No.TM TAE 125-0022, dated August 8, 2012.

(f) Alternative Methods of Compliance (AMOCs)

The Manager, Engine Certification Office, FAA, may approve AMOCs to this AD. Use the procedures found in 14 CFR 39.19 to make your request.

(g) Related Information

(1) For more information about this AD, contact Frederick Zink, Aerospace Engineer, Engine Certification Office, FAA, Engine & Propeller Directorate, 12 New England Executive Park, Burlington, MA 01803; phone: 781-238-7779; fax: 781-238-7199; email: frederick.zink@faa.gov.

(2) Refer to MCAI European Aviation Safety Agency AD 2013-0109, dated May 22, 2013, for related information. You may examine the MCAI in the AD docket on the Internet at http://www.regulations.gov/#!documentDetail;D=FAA-2013-0561-0002.

(3) Thielert Aircraft Engines GmbH Service Bulletin No. TM TAE 125-0022, dated August 8, 2012, which is not incorporated by reference in this AD, can be obtained from Thielert Aircraft Engines GmbH, using the contact information in paragraph (g)(4) of this AD.

(4) For service information identified in this AD, contact Thielert Aircraft Engines GmbH, Platanenstrasse 14 D-09350, Lichtenstein, Germany, phone: +49-37204-696-0; fax: +49-37204-696-55; email: info@centurion-engines.com.

(5) You may view this service information at the FAA, Engine & Propeller Directorate, 12 New England Executive Park, Burlington, MA. For information on the availability of this material at the FAA, call 781-238-7125.

(h) Material Incorporated by Reference

None.

Issued in Burlington, Massachusetts, on November 14, 2013.
Colleen M. D'Alessandro,
Assistant Directorate Manager, Engine & Propeller Directorate, Aircraft Certification Service.

[FR Doc. 2013-28183 Filed 11-22-13; 8:45 am]

BILLING CODE 4910-13-P